DEPARTMENT OF COMMERCE

Bureau of Export Administration

[Docket No. 010628164-1164-01]

National Defense Stockpile Market Impact Committee Request for Public Comments on the Potential Market Impact of Proposed Increases in Stockpile Disposals of Mica Splittings and Titanium Sponge

AGENCY: Department of Commerce.

ACTION: Notice of request for public comments on the potential market impact of proposed increases in the disposal quantities of Mica Splittings and Titanium Sponge from the National Defense Stockpile under the proposed Fiscal Year (FY) 2002 Annual Materials Plan (AMP).

SUMMARY: This notice is to advise the public that the National Defense Stockpile Market Impact Committee (co-chaired by the Departments of Commerce and State) is seeking public comments on the potential market impact of proposed increases in the disposal quantities of Mica Splittings and Titanium Sponge National Defense Stockpile under the proposed Fiscal Year (FY) 2002 Annual Materials Plan (AMP).

DATES: Comments must be received by August 8, 2001.

ADDRESSES: Written comments should be sent to Richard V. Meyers, Co-Chair, Stockpile Market Impact Committee, Office of Strategic Industries and Economic Security, Room 3876, Bureau of Export Administration, U.S. Department of Commerce, 14th Street and Constitution Avenue, NW., Washington, DC 20230; FAX (202) 482-5650; E-Mail; rmeyers@bxa.doc.gov

FOR FURTHER INFORMATION CONTACT: Richard V. Meyers, Office of Strategic Industries and Economic Security, Bureau of Export Administration, U.S. Department of Commerce, (202) 482-3634; or Terri L. Robl, Office of International Energy and Commodity Policy, U.S. Department of State, (202) 647-3423; co-chairs of the National Defense Stockpile Market Impact Committee.

SUPPLEMENTARY INFORMATION: Under the authority of the Strategic and Critical Materials Stock Piling Act of 1979, as amended, (50 U.S.C. 98 et seq.), the Department of Defense (DOD), as National Defense Stockpile Manager, maintains a stockpile of strategic and critical materials to supply the military, industrial, and essential civilian needs of the United States for national defense. Section 3314 of the Fiscal Year (FY) 1993 National Defense Authorization Act (NDAA) (50 U.S.C. 98h-1) formally established a Market Impact Committee (the Committee) to “advise the National Defense Stockpile Manager on the projected domestic and foreign economic effects of all acquisitions and disposals of materials from the stockpile * * *.” The Committee must also balance market impact concerns with the statutory requirement to protect the Government against avoidable loss.

The Committee is comprised of representatives from the Departments of Commerce, State, Agriculture, Defense, Energy, Interior, Treasury, and the Federal Emergency Management Agency, and is co-chaired by the Departments of Commerce and State. The FY 1993 NDAA directs the Committee to “consult from time to time with representatives of producers, processors and consumers of the types of materials stored in the stockpile.”

The National Defense Stockpile Administrator (“the Administrator”) has proposed revising the proposed FY 2002 Annual Materials Plan (AMP) (previously approved by the Committee) to increase the disposal quantities of Mica Splittings from 4 million pounds to 8.5 million pounds, and Titanium Sponge from 5,000 short tons to 7,000 short tons.

The proposed increase for Mica Splittings will allow the Administrator to consider the possibility of an offer to sell most of the remaining Stockpile inventory of Mica Splittings in one transaction. The proposed increase for Titanium Sponge will allow the Administrator to sell additional quantities of the material to meet increased industry demand. The Committee is seeking public comments on the potential market impact of these proposed increases.

The quantities of Mica Splittings and Titanium Sponge listed in the proposed FY 2002 AMP are not sales target disposal quantities. They are only a statement of the proposed maximum quantities of these materials that may be disposed of in a particular fiscal year. The quantities of these two materials that will actually be offered for sale will depend on the market for the materials at the time of their offering as well as on the quantities of the materials approved for disposal by Congress.

The Committee requests that interested parties provide written comments, supporting data and documentation, and any other relevant information on the potential market impact of the proposed increased disposal quantities of Mica Splittings and Titanium Sponge. Although comments in response to this Notice must be received by August 8, 2001 to ensure full consideration by the Committee, interested parties are encouraged to submit comments and supporting information at any time thereafter to keep the Committee informed as to the market impact of the sales of these materials. Public comment is an important element of the Committee's market impact review process.

Anyone submitting business confidential information should clearly identify the business confidential portion of the submission and also provide a non-confidential submission that can be placed in the public file. The Committee will seek to protect such information to the extent permitted by law.

The records related to this Notice will be made accessible in accordance with the regulations published in part 4 of title 15 of the Code of Federal Regulations (15 C.F.R. 4.1 et seq.). Specifically, the Bureau of Export Administration's FOIA reading room is located on its web page, which can be found at http://www.bxa.doc.gov, and copies of the public comments received will be maintained at that location (see Freedom of Information Act (FOIA) heading). If requesters cannot access the web site, they may call (202) 482-2165 for assistance.

Dated: June 28, 2001.
Matthew S. Borman,
Deputy Assistant Secretary, Bureau of Export Administration.

[FR Doc. 01-17101 Filed 7-6-01; 8:45 am]

BILLING CODE 3510-DR-M